DEPARTMENT OF HEALTH AND HUMAN SERVICES

Centers for Disease Control and Prevention

Clinical Laboratory Improvement Advisory Committee (CLIAC); Cancellation of Meeting

Notice is hereby given of a change in the meeting of the Clinical Laboratory Improvement Advisory Committee (CLIAC); April 16, 2020, 8:30 a.m. to 5:00 p.m., EDT and April 17, 2020, 8:30 a.m. to 11:30 a.m., EDT, in the original FRN. Food and Drug Administration (FDA), White Oak Campus, 10903 New Hampshire Avenue, Building 31, Great Room, Silver Spring, Maryland 20993 and via webcast at www.cdc.gov/cliac which was published in the Federal Register on February 28, 2020, Volume 85, Number 40, page 11993.

This meeting is being canceled in its entirety.

FOR FURTHER INFORMATION CONTACT: Nancy Anderson, MMSc, MT(ASCP), Senior Advisor for Clinical Laboratories, Division of Laboratory Systems, Center for Surveillance, Epidemiology and Laboratory Services, Office of Public Health Scientific Services, Centers for Disease Control and Prevention, 1600 Clifton Road NE, Mailstop V24-3, Atlanta, Georgia 30329-4027, telephone (404) 498-2741; NAnderson@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-06249 Filed 3-24-20; 8:45 am]

BILLING CODE 4163-18-P